DEPARTMENT OF DEFENSE

Department of the Navy

Meeting of the U.S. Naval Academy Board of Visitors

AGENCY: Department of the Navy, Department of Defense (DoD).

ACTION: Notice of partially closed meeting.

SUMMARY: The DoD is publishing this notice to announce that the following Federal Advisory Committee meeting of the U.S. Naval Academy Board of Visitors, hereafter “Board,” will take place.

DATES: Open to the public, December 1, 2025, from 09:00 a.m. to 11:00 a.m. Eastern Time Zone (ET). Closed to the public, December 1, 2025, from 11:00 a.m. to 12:00 p.m. ET.

ADDRESSES: This meeting will be held at the U.S. Naval Academy, Annapolis, MD. The meeting will be handicap accessible. Escort is required.

FOR FURTHER INFORMATION CONTACT: Major Shawn C. Wehrle, USMC, Executive Secretary to the Board of Visitors, Office of the Superintendent, U.S. Naval Academy, Annapolis, MD 21402-5000, 410-293-1503, wehrle@usna.edu.

SUPPLEMENTARY INFORMATION: This meeting is being held under the provisions of the Federal Advisory Committee Act (FACA) (5 U.S.C. 1001-1014), the Government in the Sunshine Act of 1976 (5 U.S.C. 552b, as amended), and the General Services Administration's Federal Advisory Committee Management Final Rule (41 CFR part 102-3).

Purpose of Meeting: The U.S. Naval Academy Board of Visitors will meet to make such inquiry, as the Board deems necessary, into the state of morale and discipline, the curriculum, instruction, physical equipment, fiscal affairs, and academic methods of the Naval Academy.

Agenda

Proposed meeting agenda for December 1, 2025.

9:00 a.m. Call to Order (Open to Public)

9:00-10:50 a.m. Opening Meeting (Open to Public)

10:50-11:00 a.m. Break (Open to Public)

11:00-12:00 a.m. Closed Meeting (Closed to Public)

The closed meeting from 11:00-12:00 p.m. ET will consist of discussions of new and pending administrative or minor disciplinary infractions and non-judicial punishments involving midshipmen attending the Naval Academy to include but not limited to, individual honor or conduct violations within the Brigade, the disclosure of which would constitute a clearly unwarranted invasion of personal privacy. For this reason, a portion of this meeting will be closed to the public, as the discussion of such information cannot be adequately segregated from other topics, which precludes opening the closed meeting to the public. The Principal Deputy General Counsel has determined in writing that the meeting shall be partially closed to the public because the discussions during the closed meeting from 11:00 a.m.-12:00 p.m. ET will be concerned with matters protected under sections 552b(c) (5), (6), and (7) of title 5, U.S.C.

Authority: 5 U.S.C. 552b.

Waiver of Notification Requirement: Due to circumstances beyond the control of the Designated Federal Officer and the Department of War, the United States Naval Academy Board of Visitors was unable to provide public notification required by 41 CFR 102-3.150(a) concerning its December 1, 2025 meeting. Accordingly, the Advisory Committee Management Officer for the Department of War, pursuant to 41 CFR 102-3.150(b), waives the 15-calendar day notification requirement.

Meeting Accessibility: Pursuant to FACA and 41 CFR 102-3.140, this meeting is open to the public. Please contact the Executive Secretary five business days prior the meeting at Admin-Routing@usna.edu to coordinate access to the meeting.

Written Statements: Pursuant to 5 U.S.C. 1009(a)(3), interested persons may submit a written statement for consideration at any time, but it should be received by the Designated Federal Officer at least five business days prior to the meeting date so that the comments may be made available to the Board for their consideration prior to the meeting. Written statements should be submitted via mail to 121 Blake Rd., Annapolis, MD 21402. Please note that since the Board operates under the provisions of the FACA, as amended, all submitted comments and public presentations may be treated as public documents and may be made available for public inspection, including, but not limited to, being posted on the board website.

Dated: November 17, 2025.
A.R. DeMaio,
Lieutenant Commander, Judge Advocate General's Corps, U.S. Navy, Federal Register Liaison Officer.

[FR Doc. 2025-20381 Filed 11-19-25; 8:45 am]

BILLING CODE 3810-FF-P